DEPARTMENT OF THE INTERIOR

National Park Service

National Mall and Memorial Parks, Washington, DC; Final Environmental Impact Statement and National Mall Plan

AGENCY: National Park Service, Department of the Interior.

ACTION: Notice of Availability of a Final Environmental Impact Statement for the National Mall Plan.

SUMMARY: Pursuant to the National Environmental Policy Act of 1969, 42 U.S.C. 4332 (2)(c), the National Park Service announces the availability of a Final Environmental Impact Statement (FEIS) for the National Mall Plan (Plan). The Plan establishes a long-term vision for the use and management of some of the most historic, symbolic, and heavily used public lands in our nation.

DATES: The FEIS for the Plan will remain available for public review for 30 days beginning on the date the U.S. Environmental Protection Agency publishes a Notice of Availability in the Federal Register.

ADDRESSES: Copies of the FEIS are available at National Mall and Memorial Parks Headquarters, 900 Ohio Drive, SW., Washington, DC, at local libraries around Washington, DC, and online at http://www.nps.gov/nationalmallplan.

FOR FURTHER INFORMATION CONTACT: Susan Spain, Project Executive, National Mall Plan at (202) 245-4692.

SUPPLEMENTARY INFORMATION: The National Mall and Memorial Parks is proposing to manage the National Mall according to the Plan's Preferred Alternative described below. The goals of this Plan are to restore resource conditions on the National Mall; better prepare it for the intense levels of use from First Amendment demonstrations, national celebrations, events, and annual visitation; and provide an enhanced experience for the visitors to this symbolic and historic cultural landscape.

During the preparation of the DEIS, the National Park Service (NPS) issued four newsletters about the Plan, including one which described a preliminary Preferred Alternative. The NPS issued press releases, contacted and worked with media to encourage public involvement, posted the DEIS on the NPS project Web site, sent out over 13,000 e-mail announcements, issued four “tweets,” held consultation meetings about historic preservation, and made informational presentations to the U.S. Commission of Fine Arts and the National Capital Planning Commission, which were open to the public. The NPS distributed over 5800 copies of the DEIS on CD and approximately 175 printed copies. The availability of the DEIS was announced on December 18, 2009 (74 FR 67206).

Comments received during the 90-day public comment period (December 18, 2009—March 17, 2010), as well as approximately 30,000 comments received before the DEIS was published, were considered in the preparation of the two-volume FEIS. Volume I of the FEIS includes revisions to the FEIS based on public comments received during review of the Plan. Volume II of the FEIS summarizes and provides the NPS response to public comments received on the Plan.

The National Mall Plan Alternatives

The following elements are common to all alternatives:

• The National Mall and Memorial Parks will fully accommodate demonstrations and special events on a first-come, first-served basis, consistent with the First Amendment and with 36 CFR 7.96.

• Cultural resources will be preserved, protected, and managed in accordance with The Secretary of the Interior's Standards and with the general recommendations of cultural landscape reports and inventories.

No-Action Alternative Under the No-Action Alternative, current management of the National Mall would remain unchanged. Existing spaces which have not been designed for the current level of use would continue to experience a high level of wear and tear, affecting the historic landscape, with the large amount of deferred maintenance and aging infrastructure, pedestrian and bicycle circulation issues, and the lack of adequate visitor facilities left unaddressed.

Preferred Alternative The Preferred Alternative is the NPS's proposed course of action. Its intent is to establish a sense of place and an overall identity for the National Mall, combining the most desirable components of each of the alternatives as well as the focused emphasis of Alternatives A, B, and C. Under the Preferred Alternative, the historic landscape of the National Mall, with its memorials and planned vistas, would be protected, and the designed landscape would evolve and be respectfully rehabilitated. The National Mall would be refurbished to become the preeminent civic stage for the Nation, capable of accommodating very high levels of use, with the needs of visitors being met in an energy-efficient and sustainable manner. Also under the Preferred Alternative, the pedestrian environment would be improved and recreational activities would be expanded by redesigning some areas, increasing recreational equipment rentals, and emphasizing connections to the recreational opportunities in adjacent parks, thereby contributing to the concept of healthy lifestyles, healthy parks, and healthy, more sustainable cities.

Alternative A—Focus on the Historic Landscape and Education. Alternative A would focus on restoring and maintaining the resources of the National Mall as a historic landscape. The designed historic landscape would evolve and change over time, reflecting significant national events. Contemporary uses would be accommodated while respecting the planned historic character and visions of the L'Enfant and McMillan Plans.

Alternative B—Focus on a Welcoming National Civic Space for Public Gatherings, Events, and High-Use Levels. Alternative B would focus on improving the National Mall to be the nation's premier civic space. Alternative B would support very high levels of use, emphasizing the National Mall's evolving ceremonial, celebratory, cultural, and visitor uses. Some areas would be redesigned to provide a more sustainable civic forum and a stage for First Amendment demonstrations and other events.

Alternative C—Focus on Urban Open Space, Urban Ecology, Recreation, and Healthy Lifestyles. Alternative C would focus on meeting the evolving recreational needs in the Nation's capital by providing beautiful, enjoyable, and ecologically sustainable open spaces that could be adapted to changing recreational patterns of diverse local and national users.

Dated: June 15, 2010.
Margaret O'Dell,
Regional Director, National Capital Region.

[FR Doc. 2010-16952 Filed 7-12-10; 8:45 am]

BILLING CODE 4312-39-P